DEPARTMENT OF DEFENSE

Office of the Secretary

Meeting of the Advisory Panel To Assess the Capabilities for Domestic Response to Terrorist Attacks Involving Weapons of Mass Destruction

ACTION: Notice of meeting.

SUMMARY: This notice sets forth the schedule and summary agenda for the next meeting of the Panel to Assess the Capabilities for Domestic Response to Terrorist Attacks Involving Weapons of Mass Destruction. Notice of this meeting is required under the Federal Advisory Committee Act. (Pub. L. 92-463).

DATES: June 16-17, 2003.

ADDRESSES: RAND, 1200 S. Hayes Street, 4th floor, Arlington, VA 22202-5050.

FOR FURTHER INFORMATION CONTACT: RAND provides information about this Panel on its Web site at http://www.rand.org/organization/nsrd/terrpanel; it can also be reached at (703) 413-1100 extension 5683.

SUPPLEMENTARY INFORMATION:

Proposed Schedule and Agenda

Panel to Assess the Capabilities for Domestic Response to Terrorist Attacks Involving Weapons of Mass Destruction will meet from 11 a.m. to 5 p.m. on June 16, 2003 and from 8:30 a.m. until 3 p.m. on June 17, 2003. Time will be allocated for public comments by individuals or organizations at the end of the meeting on June 17th. Public comment presentations will be limited to two minutes each and must be provided in writing prior to the meeting. Mail written presentations and requests to register to attend the open public session to: Hillary Peck, RAND, 1200 South Hayes Street, Arlington, VA 22202-5050. Public seating for this meeting is limited, and is available on a first-come, first-served basis.

Dated: May 29, 2003.
Patricia L. Toppings,
Alternate OSD Federal Register Liaison Officer, Department of Defense.

[FR Doc. 03-14147 Filed 6-4-03; 8:45 am]

BILLING CODE 5001-08-M